Proclamation 9795 of September 28, 2018

National Substance Abuse Prevention Month, 2018

By the President of the United States of America

A Proclamation

During National Substance Abuse Prevention Month, we recognize the importance of ending and preventing substance abuse. We must remain vigilant in raising awareness about the harms posed by alcohol and drugs, including prescription opioids, and their high potential for addiction. We can—and we must—provide families with the information, skills, and resources to stay safe and strong. As a Nation, we renew our commitment to improving individual and community health through increased education on the risks of substance abuse. Our investment in prevention will help to further yield improved academic performance, healthier lifestyles, more successful citizens, and safer communities.

Our country is reeling from the enormity of an opioid epidemic that has resulted in huge numbers of overdose fatalities, an influx of children in foster care, and too many families forever changed by the addiction or death of a loved one. In 2017 alone, it is estimated that we lost approximately 72,000 Americans to an overdose, and approximately 49,000 of those deaths involved an opioid. Fueled by prescription pain medications, heroin, and illicit fentanyl, the severity of the current addiction crisis requires immediate action. We must go beyond simply raising awareness about the harms and risks of illicit drugs, which is one reason why, last October, my Administration declared a nationwide Public Health Emergency to continue comprehensively and proactively fighting the opioid epidemic on every front.

My Administration is committed to helping overcome addiction in our country. This past June, we launched a public awareness campaign directed toward our Nation's vulnerable young people, helping them “know the truth” and “spread the truth” about the risks of opioid abuse. In August, we awarded a record-breaking $90.9 million to 731 Drug-Free Communities coalitions across all 50 States to help prevent youth drug abuse. We are also encouraging adult individuals and family members to share their personal stories on how this epidemic has affected them through platforms such as The Crisis Next Door. Launched by the White House earlier this year, this initiative is helping to remove harmful stigmas surrounding opioid abuse and showing that this crisis can affect anyone from anywhere.

This month, we reaffirm our commitment to helping educate our loved ones on the devastating effects substance abuse can have on our families, our communities, and our Nation. I call on parents, educators, mentors, employers, healthcare professionals, law enforcement officials, faith and community leaders, and Americans to support evidence-based prevention programs. Through our united advocacy and awareness efforts on the horrific dangers of substance abuse, we can cultivate a society focused on health, wellness, and prosperity.

NOW, THEREFORE, I, DONALD J. TRUMP, President of the United States of America, by virtue of the authority vested in me by the Constitution and the laws of the United States, do hereby proclaim October 2018 as National Substance Abuse Prevention Month. I call upon all Americans to engage in appropriate programs and activities to promote comprehensive substance abuse prevention efforts within their communities.

IN WITNESS WHEREOF, I have hereunto set my hand this twenty-eighth day of September, in the year of our Lord two thousand eighteen, and of the Independence of the United States of America the two hundred and forty-third.

[FR Doc. 2018-21817

Filed 10-3-18; 11:15 am]

Billing code 3295-F9-P